DEPARTMENT OF HOMELAND SECURITY

Federal Emergency Management Agency

44 CFR Part 64

[Docket ID FEMA-2015-0001; Internal Agency Docket No. FEMA-8405]

Suspension of Community Eligibility

Correction

In rule document 2015-26449 beginning on page 63130 in the issue of Monday, October 19, 2015, make the following correction:

§ 64.6 [Corrected]

On page 63131, in the table, in the first column, in the Region VII entry “Kansas: 23 Hanover, City of, Washington County” should read “Kansas: Hanover, City of, Washington County”.

[FR Doc. C1-2015-26449 Filed 10-22-15; 8:45 am]

BILLING CODE 1505-01-D